DEPARTMENT OF THE INTERIOR

Bureau of Land Management

[LLCON01000 L12200000.PN0000]

Notice of Proposed Supplementary Rules for Public Lands in Routt County, CO: Emerald Mountain Special Recreation Management Area

AGENCY: Bureau of Land Management, Interior.

ACTION: Notice of Proposed Supplementary Rules.

SUMMARY: The Bureau of Land Management (BLM) Little Snake Field Office is proposing supplementary rules to regulate conduct on specific public lands within Routt County, Colorado. The rules apply to the Emerald Mountain Special Recreation Management Area (SRMA), also known as Emerald Mountain. The BLM has determined these rules are necessary to protect Emerald Mountain's natural resources and to provide for public health and safe public recreation.

DATES: You should submit your comments by September 17, 2010. Comments postmarked or received in person after this date may not be considered in the development of the final supplementary rules.

ADDRESSES: You may submit comments by the following methods: Mail or hand-delivery: Bureau of Land Management, Little Snake Field Office, 455 Emerson Street, Craig, Colorado 81625.

FOR FURTHER INFORMATION CONTACT: David Blackstun, Bureau of Land Management, 455 Emerson Street, Craig, Colorado 81625, (970) 826-5000. Persons who use a telecommunications device for the deaf (TDD) may contact this individual by calling the Federal Information Relay Service at (800) 877-8339, 24 hours a day, seven days a week.

SUPPLEMENTARY INFORMATION:

I. Public Comment Procedures

II. Background

III. Procedural Matters

I. Public Comment Procedures

You may mail or hand-deliver comments to David Blackstun, Bureau of Land Management, Little Snake Field Office, 455 Emerson Street, Craig, Colorado 81625. Written comments on the proposed supplementary rules should be specific, be confined to issues pertinent to the proposed supplementary rules, and explain the reason for any recommended change. Where possible, comments should reference the specific section or paragraph of the proposal which the comment is addressing. The BLM is not obligated to consider or include in the Administrative Record for the supplementary rules comments that the BLM receives after the close of the comment period (See DATES), unless they are postmarked or electronically dated before the deadline, or comments delivered to an address other than the address listed above (See ADDRESSES).

Comments, including names, street addresses, and other contact information of respondents, will be available for public review at the Little Snake Field Office address listed in ADDRESSES during regular business hours (7:45 a.m. to 3:45 p.m., Monday through Friday), except Federal holidays. Before including your address, phone number, e-mail address, or other personal identifying information in your comment, you should be aware that your comment-including your personal identifying information-may be made publicly available at any time. While you can ask us in your comment to withhold your personal identifying information from public review, we cannot guarantee that we will be able to do so.

II. Background

Emerald Mountain is a 4,139 acre parcel of public land in Routt County, Colorado surrounded by private and state land. Cow Creek Road (Routt County Road 45) provides legal public access to Emerald Mountain. These supplementary rules would apply to Emerald Mountain SRMA, identified as follows:

Routt County, Colorado

Sixth Principal Meridian

T. 6 N., R. 85 W.,

Secs. 13, 15, 22, 23, 24, 25, 26, 27, 34, 35, and portions thereof.

A map of the area is available at the Little Snake Field Office.

Prior to the BLM's ownership on February 22, 2007, the parcel was owned by the Colorado State Land Board and closed to the general public with the exception of permitted agriculture and hunting. These rules are needed for the protection of the SRMA's recreational and educational opportunities, wildlife resources, historical agricultural use, and to provide for the health and safety of the public and neighboring residents.

Emerald Mountain is managed as two adjoining SRMAs or Zones. Zone 1 is managed under a destination recreation-tourism market strategy. The strategy targets Steamboat Springs area visitors, including local residents, wanting to participate in strenuous and challenging mountain biking and Nordic skiing on primitive trails that are close to town. Zone 2 is managed under a community recreation market strategy, primarily for Steamboat Springs area residents to engage in wildlife viewing, hiking, and horseback riding in a backcountry setting. Both zones are open to hunting. Other recreation activities are allowable to the extent they are compatible with the primary targeted activities. Both areas are closed to recreational motorized use.

These proposed supplementary rules implement the management decisions made in the Emerald Mountain Land Exchange Environmental Assessment/Plan Amendment approved October 2006; the Recreation Activity Management Plan and Transportation Management Plan (RAMP/TMP Phase 1) approved June 2007; and the Emerald Mountain SRMA Implementation Plan Amendment approved December 2008, which further defines the proposed supplementary rules. These documents are available for review at the Little Snake Field Office. The Emerald Mountain SRMA Implementation Plan Amendment included considerable public involvement and review, including six public meetings held at three separate locations.

Meetings were announced on the BLM Web site at: http://www.co.blm.gov/lsra/emerald_mtn/em.html. The BLM also sent 74 meeting notices to various groups, organizations, and individuals to solicit public participation and comments. The Emerald Mountain Land Exchange Environmental Assessment/Plan Amendment and the RAMP/TMP Phase 1 also received public participation and comments for the management of Emerald Mountain.

The authority for these supplementary rules is set forth at Sections 303 and 310 of the Federal Land Policy and Management Act, 43 U.S.C. 1733 and 1740, and 43 CFR 8365.1-6. These proposed supplementary rules would govern hunting, camping, mechanized transport, motorized vehicle travel, possession of glass containers, and fire maintenance at the Emerald Mountain SRMA.

III. Procedural Matters

Executive Order 12866, Regulatory Planning and Review

These supplementary rules are not a significant regulatory action and are not subject to review by Office of Management and Budget under Executive Order 12866. These supplementary rules will not have an annual effect of $100 million or more on the economy. They will not adversely affect in a material way the economy, productivity, competition, jobs, the environment, public health or safety, or state, local, or tribal governments or communities. These supplementary rules would not create a serious inconsistency or otherwise interfere with an action taken or planned by another agency. These supplementary rules would not materially alter the budgetary effects of entitlements, grants, user fees, or loan programs or the rights or obligations of their recipients; nor do they raise novel legal or policy issues. These rules would merely establish rules of conduct for public use of a limited area of public lands in order to protect natural resources and public health and safety.

Clarity of the Supplementary Rules

Executive Order 12866 requires each agency to write regulations that are simple and easy to understand. The BLM invites your comments on how to make these supplementary rules easier to understand, including answers to questions such as the following:

(1) Are the requirements in the supplementary rules clearly stated?

(2) Do the supplementary rules contain technical language or jargon that interferes with their clarity?

(3) Does the format of the supplementary rules (grouping and order or sections, use of headings, paragraphing, etc.) aid or reduce their clarity?

(4) Would the supplementary rules be easier to understand if they were divided into more (but shorter) sections?

(5) Is the description of the supplementary rules in the SUPPLEMENTARY INFORMATION section of this preamble helpful to your understanding of the supplementary rules? How could this description be more helpful in making the supplementary rules easier to understand?

Please send any comments you have on the clarity of the supplementary rules to the address specified in the ADDRESSES section.

National Environmental Policy Act of 1969 (NEPA)

The BLM prepared two environmental assessments (EA CO-100-2006-089 and EA CO-100-2007-057) and has determined that these supplementary rules would not constitute a major Federal action significantly affecting the quality of the human environment under Section 102(2)(C) of NEPA, 42 U.S.C. 4332(2)(C). The supplementary rules would merely establish rules of conduct for public use of a limited area of public lands in order to protect natural resources and the health and safety of the public. Although the area would be open to recreational uses, such as permitted hunting, camping would be prohibited for consistency with the management objectives identified through the scoping process for the Emerald Mountain Land Exchange EA/Plan Amendment and preferred Alternative 2—Modified Use. The BLM has placed both EAs and Findings of No Significant Impact on file in the BLM Administrative Record at the address specified in the ADDRESSES section. These EAs constitute the BLM's compliance with the requirements of NEPA.

Regulatory Flexibility Act

Congress enacted the Regulatory Flexibility Act of 1980 (RFA), as amended, 5 U.S.C. 601-612, to ensure that government regulations do not unnecessarily or proportionately burden small entities. The RFA requires a regulatory flexibility analysis if a rule would have a significant economic impact, either detrimental or beneficial, on a substantial number of small entities. These rules would establish rules of conduct for public use of a limited area of public lands. Therefore, the BLM has determined under the RFA that these rules would not have a significant economic impact on a substantial number of small entities.

Small Business Regulatory Enforcement Fairness Act

These supplementary rules are not a “major rule” as defined at 5 U.S.C. 804(2). These rules establish rules of conduct for public use of a limited area of public lands and do not affect commercial or business activities of any kind. These rules would not result in an annual effect on the economy of $100 million or more, in a major increase in costs or prices, or in significant adverse effects on competition, employment, investment, productivity, innovation, or on the ability of United States-based enterprises to compete with foreign-based enterprises in domestic and export markets. They would impose restrictions on certain recreational activities on certain public lands to protect natural resources, the environment, human health, and safety.

Unfunded Mandates Reform Act

These supplementary rules would not impose an unfunded mandate on state, local, or tribal governments, in the aggregate, or the private sector, of more than $100 million per year; nor would these supplementary rules have a significant or unique effect on state, local, or tribal governments, or the private sector. The supplementary rules would have no effect on state, local, or tribal governments and do not impose any requirements on any of these entities. Therefore, the BLM is not required to prepare a statement containing the information required by the Unfunded Mandates Reform Act (2 U.S.C. 1531 et seq.).

Executive Order 12630, Governmental Actions and Interference With Constitutionally Protected Property Rights (Takings)

The supplementary rules would not represent a government action capable of interfering with constitutionally protected property rights. The supplementary rules would not address property rights in any form, and do not cause the impairment of one's property rights. Therefore, the BLM has determined that the supplementary rules would not cause a “taking” of private property or require further discussion of takings implications under this Executive Order.

Executive Order 13132, Federalism

The supplementary rules would not have a substantial direct effect on the states, on the relationship between the national government and the states, or on the distribution of power and responsibilities among the various levels of government. The shooting restrictions in the supplementary rules do not apply to hunting with a state hunting license. Therefore, in accordance with Executive Order 13132, the BLM has determined that the supplementary rules do not have sufficient Federalism implications to warrant preparation of a Federalism Assessment.

Executive Order 12988, Civil Justice Reform

Under Executive Order 12988, the Colorado State Office of the BLM has determined that these supplementary rules would not unduly burden the judicial system and the requirements of sections 3(a) and 3(b)(2) of the Order.

Executive Order 13175, Consultation and Coordination With Indian Tribal Governments

In accordance with Executive Order 13175, the BLM initiated consultation with the following Native American tribes regarding the proposed Emerald Mountain Land Exchange project in September 2004: Southern Ute Tribe, Ute Mountain Ute Tribal Council, Colorado Commission of Indian Affairs, and the Uintah and Ouray Tribal Council. The tribes did not identify any concerns regarding traditional or religious cultural properties in the Emerald Mountain Special Recreation Management Area. These supplementary rules would not affect Indian land, resources, or religious rights.

Executive Order 13211, Actions Concerning Regulations That Significantly Affect Energy Supply, Distribution, or Use

These proposed supplementary rules do not comprise a significant energy action. The rules would not have a significant adverse effect on energy supplies, production, or consumption.

Paperwork Reduction Act

These supplementary rules would not contain information collection requirements that the Office of Management and Budget must approve under the Paperwork Reduction Act of 1995, 44 U.S.C. 3501 et seq.

Author

The principal author of these proposed supplementary rules is David E. Blackstun, Acting Field Manager, Little Snake Field Office, Bureau of Land Management.

For the reasons stated in the Preamble, and under the authority of the Federal Land Policy and Management Act (FLPMA), 43 U.S.C. 1733 and 1740, and 43 CFR 8365.1-6, the Colorado State Director, Bureau of Land Management, proposes the following supplementary rules for public lands within the Emerald Mountain Special Recreation Management Area:

Supplementary Rules for the Emerald Mountain Special Recreation Management Area

Definitions

Camping means the erecting of a tent or shelter of natural or synthetic material, preparing a sleeping bag or other bedding material for use, parking a motor vehicle, motor home or trailer, or mooring of a vessel for the apparent purpose of overnight occupancy.

Designated Trail means a trail developed, maintained, and explicitly identified for public use by the BLM. All designated trails will be identified by a combination of trailhead maps and on-site signage listing allowable uses.

Mechanized Transport means any vehicle, device, or contrivance for moving people or material in or over land, water, snow, or air that has moving parts, including, but not limited to, bicycles, game carriers, carts, and wagons. The term does not include wheelchairs, horses or other pack stock, skis, or snowshoes.

Motorized Vehicle means any self-propelled device in, upon, or by which any person or property is or may be propelled, moved, or drawn, including, but not limited to, cars, trucks, vans, motorcycles, all-terrain vehicles, motor-driven cycles, motorized scooters, motorized skateboards, and snowmobiles. “Motorized vehicle” does not include a self-propelled wheelchair, invalid tricycle, or motorized quadricycle when operated by a person who, by reason of physical disability, is otherwise unable to move about as a pedestrian.

Firearm or Other Projectile Shooting Device means all firearms, air rifles, pellet and BB guns, spring guns, bows and arrows, slings, paint ball markers, other instruments that can propel a projectile (such as a bullet, dart, or pellet by combustion, air pressure, gas pressure, or other means), or any instrument that can be loaded with and fire blank cartridges.

Unless otherwise authorized by the Field Manager, the following rules apply within the Emerald Mountain SRMA boundary:

1. Camping and overnight use is prohibited. The area is closed between sunset and sunrise, except for lawful hunting licensed periods and for retrieval of legally taken game. Hunters are not allowed to camp overnight.

2. No mechanized transport activities are allowed within Zone 2, including game carts.

3. No person or persons shall discharge a firearm or other projectile shooting device of any kind, including those used for target shooting or paintball, except licensed hunters in pursuit of game during the proper season with appropriate firearms, as defined by the Colorado Division of Wildlife (CDOW), Section 33-1-102, C.R.S. Article IV #004: Manner of Taking Wildlife.

4. Zone 2 and trails south of Ridge Trail in Zone 1 are closed to the public from December 1 to June 30 to protect wintering and calving elk.

5. Non-working dogs must be on a six-foot or less hand-held leash at all times. Working dogs are allowed off-leash only during legal hunting periods when controlled by someone legally hunting, or when working as cattle dogs.

6. Fires are not allowed except at the trailheads in a mechanical stove or other appliance fueled by gas and equipped with a valve that allows the operator to turn the flame on and off.

7. Possession of glass containers is prohibited.

8. The entire area is designated closed to motorized vehicle travel, with the exception of Cow Creek Road (Routt County Road 45). The closure excludes:

• Any military, fire, emergency, or law enforcement vehicle being used for emergency purposes; and

• Any vehicle whose use is expressly authorized by the authorized officer, or otherwise officially approved (e.g., grazing permittee, CDOW, Routt County personnel).

Official use means use by an employee, agent, or designated representative of the Federal government or one of its contractors, in the course of his employment, agency, or representation.

Exemptions

The following persons are exempt from these supplementary rules: any Federal, state, local, and/or military employee acting within the scope of their duties; members of any organized rescue or fire-fighting force performing an official duty; and persons, agencies, municipalities, or companies holding an existing special-use permit inside the SRMA and operating within the scope of their permit.

Penalties

Under Section 303(a) of FLPMA, 43 U.S.C. 1733(a), if you violate any of these supplementary rules on public lands within the boundaries established in the rules, you may be tried before a United States Magistrate and fined no more than $1,000 or imprisoned for no more than 12 months, or both. Such violations may also be subject to the enhanced fines provided for by 18 U.S.C. 3571.

Helen M. Hankins,
State Director.

[FR Doc. 2010-20346 Filed 8-17-10; 8:45 am]

BILLING CODE 4310-JB-P